ENVIRONMENTAL PROTECTION AGENCY

40 CFR Part 52

[EPA-R01-OAR-2011-0711; FRL-9660-2]

Approval and Promulgation of Air Quality Implementation Plans; Connecticut; Determination of Attainment of the One-hour Ozone Standard for the Greater Connecticut Area; Correction

AGENCY: Environmental Protection Agency (EPA).

ACTION: Final rule; correction of docket number.

SUMMARY: This document corrects an error in the docket number of a final rule pertaining to a determination that the Greater Connecticut serious one-hour ozone nonattainment area did not meet the applicable deadline of November 15, 2007, for attaining the one-hour National Ambient Air Quality Standard (NAAQS) for ozone. In addition, that same final rule determined that the Greater Connecticut serious one-hour ozone nonattainment area is currently attaining the now revoked one-hour NAAQS for ozone. The correct docket number for this action is EPA-R01-OAR-2011-0711.

DATES: This correction is effective on April 18, 2012.

FOR FURTHER INFORMATION CONTACT: Richard P. Burkhart, Air Quality Planning Unit, U.S. Environmental Protection Agency, EPA New England Regional Office, 5 Post Office Square, Suite 100, Boston, MA 02109-3912, telephone number (617) 918-1664, fax number (617) 918-0664, email Burkhart.Richard@epa.gov.

SUPPLEMENTARY INFORMATION: On, March 16, 2012 (77 FR 15607), EPA published a final rulemaking notice announcing that the Greater Connecticut one-hour ozone nonattainment area did not meet its applicable one-hour ozone attainment date of November 15, 2007, based on 2005-2007 quality-assured ozone monitoring data. Separate from and independent of the first determination, EPA also determined that the Greater Connecticut one-hour ozone nonattainment area is currently attaining the one-hour ozone standard, based on the most recent three years (2008-2010) of complete, quality-assured ozone monitoring data at all monitoring sites in the area. In the March 16, 2012 final rulemaking, EPA inadvertently stated an incorrect docket number. The correct docket number for this action is EPA-R01-OAR-2011-0711. The Notice of Proposed Rulemaking (NPR) for this action (76 FR 72377; November 23, 2011) included the correct docket number. Thus, the public had appropriate opportunity to comment on the NPR.

List of Subjects in 40 CFR Part 52

Environmental protection, Air pollution control, Ozone, Incorporation by reference, Reporting and recordkeeping requirements, Volatile organic compounds.

Dated: April 5, 2012.
H. Curtis Spalding,
Regional Administrator, EPA New England.

[FR Doc. 2012-9222 Filed 4-17-12; 8:45 am]

BILLING CODE 6560-50-P